DEPARTMENT OF HEALTH AND HUMAN SERVICES

Centers for Medicare & Medicaid Services

Privacy Act of 1974; Report of Modified or Altered System

AGENCY: Department of Health and Human Services (HHS) Centers for Medicare & Medicaid Services (CMS).

ACTION: Notice of modified or altered system of records (SOR).

SUMMARY: In accordance with the requirements of the Privacy Act of 1974, we are proposing to modify or alter an SOR, “Medicare Hearings and Appeals System (MHAS), System No. 09-70-5001.” We propose to broaden the scope of this system to support additional levels of claim determination appeals administered by CMS pursuant to Title XVIII of the Social Security Act (the Act). We propose to change the name of the system from MHAS to the “Medicare Appeals System” (MAS) to more closely reflect the new and broadened scope of activities that will become a part of this system. We propose to further broaden the scope of this system with the inclusions of support for appeals processes for both the Medicare Fee-for-Service (FFS) appeals at the Qualified Independent Contractors (QIC) and Medicare Advantage appeals at the Independent Review Entity (IRE) Second Level Appeal. As an orderly timetable will permit, CMS will explore the possibility of extending the scope of MAS to include all five appeal levels:

Affiliated Contractors (Carriers and Fiscal Intermediaries) and Medicare Advantage Organizations (MAO)—the First Level Appeal; QIC and IRE—the Second Level Appeal; ALJ Hearing—the Third Level Appeal; Medicare Departmental Appeals Board (DAB) Hearing—the Fourth Level Appeal; and Federal District Court Judicial Review—the Fifth Level Appeal.

In the interim, before deployment of the MAS, CMS has developed a mid-tier, client server-based system known as the Medicare Case Tracking System (MCATS). MCATS will be utilized if the MAS is not available to collect and track appeals data, including status, timelines, and decision data. It has the capability to provide summary reports for data analysis, and will comply with applicable security and privacy rules, regulations, and policies.

We propose to broaden the scope of activities covered by this system with the inclusion of related activities presented in the 2 published CMS systems identified below: (1) “Reconsideration and Hearing Case Files (Part A)—Hospital Insurance Program,” System No. 09-70-0508 (published 47 FR 45725 (Oct. 13, 1982)), and (2) “Review and Fair Hearing Case Files (Part B)—Supplementary Medical Insurance Program,” System No. 09-70-0512 (47 FR 45727 (Oct. 13, 1982)). These 2 systems will be discontinued with the completion of this proposed modification to MAS since they will duplicate many of the same functions.

We propose to delete published routine use number 4 authorizing disclosure to the Department of Justice (DOJ), and an unnumbered routine use authorizing disclosure to SSA. Access to the data for these activities will be accomplished by the addition of a new routine use authorizing release of information in this system to “another Federal agency.” In addition, we propose to add a new routine use for QIO to ensure that payment is only made for medically necessary services and to investigate beneficiary complaints about quality of care. We will also add 2 new routine uses to combat fraud and abuse in certain health care programs.

The security classification previously reported as “None” will be modified to reflect that the data in this system is considered to be “Level Three Privacy Act Sensitive.” We are modifying the language in the remaining routine uses to provide an easy to read format and to increase uniformity where appropriate to CMS's intention to disclose individual-specific information contained in this system. The routine uses will then be prioritized and reordered according to their usage. We will also take the opportunity to update any sections of the system that were affected by the recent reorganization and to update language in the administrative sections to correspond with language used in other CMS SORs.

The primary purposes of the system is to collect and maintain information necessary to: (1) Process the initial, organization, and reconsidered determination requests, “Request For Hearing or Appeal,” made by an appellant or appealing party, as required for the review of determinations by FFS and MAOs; (2) track appeal data, including status, timeliness, and decisions; and (3) reply to future correspondence related to the case. Information in this system will also be disclosed to: support regulatory and policy functions performed within the Agency or by a contractor or consultant; assist another Federal agency; assist QIO; support constituent requests made to a congressional representative; support litigation involving the agency related to this SOR; and, combat fraud and abuse in certain health benefits programs. We have provided background information about the modified system in the Supplementary Information section below. Although the Privacy Act requires only that CMS provide an opportunity for interested persons to comment on the proposed routine uses, CMS invites comments on all portions of this notice. See Effective Dates section for comment period.

DATES: Effective Dates: CMS filed a modified or altered system report with the Chair of the House Committee on Government Reform and Oversight, the Chair of the Senate Committee on Governmental Affairs, and the Administrator, Office of Information and Regulatory Affairs, Office of Management and Budget (OMB) on October 1, 2004. To ensure that all parties have adequate time in which to comment, the modified or altered SOR, including routine uses, will become effective 30 days from the publication of the notice, or 40 days from the date it was submitted to OMB and the congress, whichever is later, unless CMS receives comments that require alterations to this notice.

ADDRESSES: The public should address comments to: Director, Division of Privacy Compliance Data Development, Enterprises Databases Group, Office of Information Services, CMS, Mail Stop N2-04-27, 7500 Security Boulevard, Baltimore, Maryland 21244-1850. Comments received will be available for review at this location, by appointment, during regular business hours, Monday through Friday from 9 a.m.-3 p.m., eastern daylight time.

FOR FURTHER INFORMATION CONTACT: Michael Crochunis, Director, Division of Appeals Operations, Health Plan Policy Group, Center for Beneficiary Choices, CMS, Room S1-05-06, 7500 Security Boulevard, Baltimore, Maryland 21244-1850. The telephone number is 410-786-3203.

SUPPLEMENTARY INFORMATION:

I. Description of the Modified System

Statutory and Regulatory Basis for SOR

In 1987, CMS established this SOR under the authority of sections 205, 1155, 1156, 1869, and 1872 of the Act. Notice of this system, “Medicare Hearings and Appeals Systems (MHAS), System No. 09-70-5001,” was published at 52 FR 34846 (Sept. 15, 1987), and an unnumbered routine use for disclosure to SSA was added at 61 FR 6645 (Feb. 21, 1996). Additional authority for the maintenance of this system is given under of sections 205 of Title II, sections 1155 and 1156 of Title XI, sections 1812, 1814, 1816, 1842, 1869, and 1872 of Title XVIII of the Act, as amended (42 United States Code (U.S.C.) sections 405, 1320c-4, 1320c-5, 1395d, 1395f, 1395h, 1395u, 1395ff, and 1395ii).

II. Collection and Maintenance of Data in the System

A. Scope of the Data Collected

The system contains information concerning Medicare beneficiaries, physicians, providers, and other persons involved in furnishing services to health insurance beneficiaries. Information on beneficiaries consist of name, address, social security numbers (SSN), health insurance claims numbers (HICN), medical services, equipment and supplies for which Medicare reimbursement is requested, and materials used to determine amount of benefits allowable under Medicare. Information on appellants, physicians, and other persons consist of name, work address, work phone number, an assigned provider identification number, specialty, medical services for which Medicare reimbursement is requested, and materials used to determine amounts of benefits allowable under Medicare.

B. Agency Policies, Procedures, and Restrictions on the Routine Uses

The Privacy Act permits us to disclose information without an individual's consent if the information is to be used for a purpose that is compatible with the purpose(s) for which the information was collected. Any such disclosure of data is known as a “routine use.” The government will only release MAS information that can be associated with an individual as provided for under “Section III. Proposed Routine Use Disclosures of Data in the System.” Both identifiable and non-identifiable data may be disclosed under a routine use.

We will only collect the minimum personal data necessary to achieve the purpose of MAS. CMS has the following policies and procedures concerning disclosures of information that will be maintained in the system. Disclosure of information from the SOR will be approved only for the minimum information necessary to accomplish the purpose of the disclosure only after CMS:

1. Determines that the use or disclosure is consistent with the reason that the data is being collected, e.g., collecting and maintaining information used in processing the appellant's hearing or appeal, to track a particular case, and information necessary to reply to future correspondence.

2. Determines that:

a. The purpose for which the disclosure is to be made can only be accomplished if the record is provided in individually identifiable form;

b. The purpose for which the disclosure is to be made is of sufficient importance to warrant the effect and/or risk on the privacy of the individual that additional exposure of the record might bring; and

c. There is a strong probability that the proposed use of the data would in fact accomplish the stated purpose (s).

3. Requires the information recipient to:

a. Establish administrative, technical, and physical safeguards to prevent unauthorized use of disclosure of the record;

b. Remove or destroy at the earliest, legally permissible-time all individually-identifiable information; and

c. Agree to not use or disclose the information for any purpose other than the stated purpose under which the information was disclosed.

4. Determines that the data are valid and reliable.

III. Proposed Routine Use Disclosures of Data in the System

A. Entities Who May Receive Disclosures Under Routine Use

These routine uses specify circumstances, in addition to those provided by statute in the Privacy Act of 1974, under which CMS may release information from the MAS without the consent of the individual to whom such information pertains. Each proposed disclosure of information under these routine uses will be evaluated to ensure that the disclosure is legally permissible, including but not limited to ensuring that the purpose of the disclosure is compatible with the purpose for which the information was collected. We are proposing to establish or modify the following routine use disclosures of information maintained in the system:

1. To support agency contractors, or consultants who have been engaged by the agency to assist in accomplishment of a CMS function relating to the purposes for this SOR and who need to have access to the records in order to assist CMS.

We contemplate disclosing information under this routine use only in situations in which CMS may enter into a contractual or similar agreement with a third party to assist in accomplishing a CMS function relating to purposes for this SOR.

CMS occasionally contracts out certain of its functions when doing so would contribute to effective and efficient operations. CMS must be able to give a contractor or consultant all information that is necessary for the contractor or consultant to fulfill its duties. In these situations, safeguards are provided in the contract prohibiting the contractor or consultant from using or disclosing the information for any purpose other than that described in the contract and requires the contractor or consultant to return or destroy all information at the completion of the contract.

2. To assist another Federal agency in the accomplishment of a CMS function relating to the purposes for this SOR and who need to have access to the records in order to support CMS.

DOJ may require MAS data to assist them in investigating and prosecuting violations of the Act to which criminal penalties attach, or other criminal statutes as they pertain to certain programs authorized by the Act, and for representing the Secretary of the Department of Health and Human Services.

We contemplate disclosing information under this routine use only in situations in which CMS may enter into a contractual or similar agreement with another Federal agency to assist in accomplishing CMS functions relating to purposes for this SOR.

3. To assist Quality Improvement Organizations in connection with review of claims, or in connection with studies or other review activities, conducted pursuant to Part B of Title XI of the Act and in performing affirmative outreach activities to individuals for the purpose of establishing and maintaining their entitlement to Medicare benefits or health insurance plans.

QIOs will work to implement quality improvement programs, provide consultation to CMS, its contractors, and to ensure that payment is only made for medically necessary services. QIOs will assist in related monitoring and enforcement efforts, assist CMS and intermediaries in program integrity assessment, investigate beneficiary complaints about quality of care, and prepare summary information for release to CMS.

4. To support a Member of Congress or to a congressional staff member in response to an inquiry of the congressional office made at the written request of the constituent about whom the record is maintained.

Individuals sometimes request the help of a Member of Congress in resolving some issue relating to a matter before CMS. The Member of Congress then writes CMS, and CMS must be able to give sufficient information to be responsive to the inquiry.

5. To support the Department of Justice (DOJ), court or adjudicatory body when

a. The agency or any component thereof, or

b. Any employee of the agency in his or her official capacity, or

c. Any employee of the agency in his or her individual capacity where the DOJ has agreed to represent the employee, or

d. The United States Government is a party to litigation or has an interest in such litigation, and by careful review, CMS determines that the records are both relevant and necessary to the litigation.

Whenever CMS is involved in litigation, or occasionally when another party is involved in litigation and CMS's policies or operations could be affected by the outcome of the litigation, CMS would be able to disclose information to the DOJ, court or adjudicatory body involved.

6. To support a CMS contractor (including, but not limited to fiscal intermediaries and carriers) that assists in the administration of a CMS-administered health benefits program, or to a grantee of a CMS-administered grant program, when disclosure is deemed reasonably necessary by CMS to prevent, deter, discover, detect, investigate, examine, prosecute, sue with respect to, defend against, correct, remedy, or otherwise combat fraud or abuse in such program.

We contemplate disclosing information under this routine use only in situations in which CMS may enter into a contract or grant with a third party to assist in accomplishing CMS functions relating to the purpose of combating fraud and abuse.

CMS occasionally contracts out certain of its functions when doing so would contribute to effective and efficient operations. CMS must be able to give a contractor or grantee whatever information is necessary for the contractor or grantee to fulfill its duties. In these situations, safeguards are provided in the contract prohibiting the contractor or grantee from using or disclosing the information for any purpose other than that described in the contract and requiring the contractor or grantee to return or destroy all information.

7. To support another Federal agency or to an instrumentality of any governmental jurisdiction within or under the control of the United States (including any state or local governmental agency), that administers, or that has the authority to investigate potential fraud or abuse in, a health benefits program funded in whole or in part by Federal funds, when disclosure is deemed reasonably necessary by CMS to prevent, deter, discover, detect, investigate, examine, prosecute, sue with respect to, defend against, correct, remedy, or otherwise combat fraud or abuse in such programs.

Other agencies may require MAS information for the purpose of combating fraud and abuse in such Federally funded programs.

B. Additional Circumstances Affecting Routine Use Disclosures

This system contains Protected Health Information as defined by HHS regulation “Standards for Privacy of Individually Identifiable Health Information” (45 CFR Parts 160 and 164, 65 FR 82462 (12-28-00), Subparts A and E. Disclosures of Protected Health Information authorized by these routine uses may only be made if, and as, permitted or required by the “Standards for Privacy of Individually Identifiable Health Information.”

In addition, our policy will be to prohibit release even of data not directly identifiable, except pursuant to one of the routine uses or if required by law, if we determine there is a possibility that an individual can be identified through implicit deduction based on data where the patient population is so small that individuals who are familiar with the enrollees could, because of the small size, use this information to deduce the identity of the beneficiary.

IV. Safeguards

CMS has safeguards in place for authorized users and monitors such users to ensure against excessive or unauthorized use. Personnel having access to the system have been trained in the Privacy Act and information security requirements. Employees who maintain records in this system are instructed not to release data until the intended recipient agrees to implement appropriate management, operational and technical safeguards sufficient to protect the confidentiality, integrity and availability of the information and information systems and to prevent unauthorized access.

This system will conform to all applicable Federal laws and regulations and Federal, HHS and CMS policies and standards as they relate to information security and data privacy. These laws and regulations include but are not limited to: the Privacy Act of 1974; the Federal Information Security Management Act of 2002; the Computer Fraud and Abuse Act of 1986; the Health Insurance Portability and Accountability Act of 1996; the E-Government Act of 2002, the Clinger-Cohen Act of 1996; the Medicare Modernization Act of 2003, and the corresponding implementing regulations. OMB Circular A-130, Management Of Federal Resources, Appendix III, Security of Federal Automated Information Resources also applies. Federal, HHS, and CMS policies and standards include but are not limited to: All pertinent NIST publications; the HHS Automated Information Systems Security Handbook and the CMS Information Security Handbook.

V. Effect of the Modified System on Individual Rights

CMS proposes to establish this system in accordance with the principles and requirements of the Privacy Act and will collect, use, and disseminate information only as prescribed therein. We will only disclose the minimum personal data necessary to achieve the purpose of MAS. Disclosure of information from the SOR will be approved only to the extent necessary to accomplish the purpose of the disclosure. CMS has assigned a higher level of security clearance for the information in this system to provide added security and protection of data in this system.

CMS will take precautionary measures to minimize the risks of unauthorized access to the records and the potential harm to individual privacy or other personal or property rights. CMS will collect only that information necessary to perform the system's functions. In addition, CMS will make disclosure from the proposed system only with consent of the subject individual, or his/her legal representative, or in accordance with an applicable exception provision of the Privacy Act.

CMS, therefore, does not anticipate an unfavorable effect on individual privacy as a result of the disclosure of information relating to individuals.

Dated: October 1, 2004.
Mark B. McClellan,
Administrator, Centers for Medicare & Medicaid Services.

System No. 09-70-5001

System Name:

“Medicare Appeals System (MAS),” HHS/CMS/CBC.

Security Classification:

Level Three Privacy Act Sensitive.

System Location:

CMS Data Center, 7500 Security Boulevard, North Building, First Floor, Baltimore, Maryland 21244-1850. This system is also located in locations listed in appendix A.

Categories of Individuals Covered By the System:

The system contains information concerning Medicare beneficiaries, and physicians and other persons involved in furnishing services to health insurance beneficiaries.

Categories of Records in the System:

Information contained in this system include beneficiary's name, address, social security number (SSN), health insurance claims number (HICN), medical services, equipment, and supplies for which Medicare reimbursement is requested, and materials used to determine amount of benefits allowable under Medicare. Information on physicians and other persons consists of name, work address, work phone number, an assigned provider identification number, specialty, medical services for which Medicare reimbursement is requested, materials used to determine amounts of benefits allowable under Medicare.

Authority for Maintenance of the System:

Authority for the maintenance of this SOR is given under section 205 of Title II, sections 1155 and 1156 of Title XI, sections 1812, 1814, 1816, 1842, 1869, and 1872 of Title XVIII of the Social Security Act (the Act), as amended (42 United States Code (U.S.C.) sections 405, 1320c-4, 1320c-5, 1395d, 1395f, 1395h, 1395u, 1395ff, and 1395ii).

Purpose(s) of the System:

The primary purpose of the system is to collect and maintain information necessary to: (1) Process the initial, organization, and reconsidered determination requests, “Request For Hearing or Appeal,” made by an appellant or appealing party, as required for the review of determinations by Fee-for-Service and Medicare Advantage Organizations; (2) track appeal data, including status, timeliness, and decisions; and (3) reply to future correspondence related to the case. Information in this system will also be disclosed to: support regulatory and policy functions performed within the Agency or by a contractor or consultant; assist another Federal agency; assist QIO; support constituent requests made to a congressional representative; support litigation involving the agency related to this SOR; and, combat fraud and abuse in certain health benefits programs.

Routine Uses of Records Maintained in the System, Including Categories or Users and the Purposes of Such Uses

A. Entities Who May Receive Disclosures Under Routine Use

These routine uses specify circumstances, in addition to those provided by statute in the Privacy Act of 1974, under which CMS may release information from the MAS without the consent of the individual to whom such information pertains. Each proposed disclosure of information under these routine uses will be evaluated to ensure that the disclosure is legally permissible, including but not limited to ensuring that the purpose of the disclosure is compatible with the purpose for which the information was collected. We are proposing to establish or modify the following routine use disclosures of information maintained in the system:

1. To support Agency contractors, or consultants who have been engaged by the Agency to assist in accomplishment of a CMS function relating to the purposes for this SOR and who need to have access to the records in order to assist CMS.

2. To assist another Federal agency in the accomplishment of a CMS function relating to the purposes for this SOR and who need to have access to the records in order to support CMS.

3. To assist Quality Improvement Organizations in connection with review of claims, or in connection with studies or other review activities, conducted pursuant to Part B of Title XI of the Act and in performing affirmative outreach activities to individuals for the purpose of establishing and maintaining their entitlement to Medicare benefits or health insurance plans.

4. To assist a Member of Congress or to a congressional staff member in response to an inquiry of the congressional office made at the written request of the constituent about whom the record is maintained.

5. To assist the Department of Justice (DOJ), court or adjudicatory body when:

a. The Agency or any component thereof, or

b. Any employee of the Agency in his or her official capacity, or

c. Any employee of the Agency in his or her individual capacity where the DOJ has agreed to represent the employee, or

d. The United States Government is a party to litigation or has an interest in such litigation, and by careful review, CMS determines that the records are both relevant and necessary to the litigation.

6. To assist a CMS contractor (including, but not limited to fiscal intermediaries and carriers) that assists in the administration of a CMS-administered health benefits program, or to a grantee of a CMS-administered grant program, when disclosure is deemed reasonably necessary by CMS to prevent, deter, discover, detect, investigate, examine, prosecute, sue with respect to, defend against, correct, remedy, or otherwise combat fraud or abuse in such program.

7. To assist another Federal agency or to an instrumentality of any governmental jurisdiction within or under the control of the United States (including any state or local governmental agency), that administers, or that has the authority to investigate potential fraud or abuse in, a health benefits program funded in whole or in part by Federal funds, when disclosure is deemed reasonably necessary by CMS to prevent, deter, discover, detect, investigate, examine, prosecute, sue with respect to, defend against, correct, remedy, or otherwise combat fraud or abuse in such programs.

B. Additional Circumstances Affecting Routine Use Disclosures

This system contains Protected Health Information as defined by HHS regulation “Standards for Privacy of Individually Identifiable Health Information” (45 CFR Parts 160 and 164, 65 FR 82462 (12-28-00)), Subparts A and E. Disclosures of Protected Health Information authorized by these routine uses may only be made if, and as, permitted or required by the “Standards for Privacy of Individually Identifiable Health Information.”

In addition, our policy will be to prohibit release even of data not directly identifiable, except pursuant to one of the routine uses or if required by law, if we determine there is a possibility that an individual can be identified through implicit deduction based on data where the patient population is so small that individuals who are familiar with the enrollees could, because of the small size, use this information to deduce the identity of the beneficiary.

Policies and Practices for Storing, Retrieving, Accessing, Retaining, and Disposing of Records in the System:

Storage:

Computer diskette and on magnetic storage media.

Retrievability:

Information can be retrieved by the name, SSN, HICN, and assigned provider number.

Safeguards:

CMS has safeguards in place for authorized users and monitors such users to ensure against excessive or unauthorized use. Personnel having access to the system have been trained in the Privacy Act and information security requirements. Employees who maintain records in this system are instructed not to release data until the intended recipient agrees to implement appropriate management, operational and technical safeguards sufficient to protect the confidentiality, integrity and availability of the information and information systems and to prevent unauthorized access.

This system will conform to all applicable Federal laws and regulations and Federal, HHS, and CMS policies and standards as they relate to information security and data privacy. These laws and regulations include but are not limited to: the Privacy Act of 1974; the Federal Information Security Management Act of 2002; the Computer Fraud and Abuse Act of 1986; the Health Insurance Portability and Accountability Act of 1996; the E-Government Act of 2002, the Clinger-Cohen Act of 1996; the Medicare Modernization Act of 2003, and the corresponding implementing regulations. OMB Circular A-130, Management Of Federal Resources, Appendix III, Security of Federal Automated Information Resources also applies. Federal, HHS, and CMS policies and standards include but are not limited to: all pertinent NIST publications; the HHS Automated Information Systems Security Handbook and the CMS Information Security Handbook.

Retention and Disposal:

Records are maintained in a secure storage area with identifiers. Disposal occurs ten years after the final determination of the case is completed.

System Manager and Address:

Director, Division of Appeals Operations, Health Plan Policy Group, Center for Beneficiary Choices, CMS, Room S1-05-06, 7500 Security Boulevard, Baltimore, Maryland 21244-1850.

Notification Procedure:

For purpose of access, the subject individual should write to the system manager who will require the system name, HICN, address, date of birth, and sex, and for verification purposes, the subject individual's name (woman's maiden name, if applicable), social security number (SSN). Furnishing the SSN is voluntary, but it may make searching for a record easier and prevent delay.

Record Access Procedure:

For purpose of access, use the same procedures outlined in Notification Procedures above. Requestors should also reasonably specify the record contents being sought. (These procedures are in accordance with Department regulation 45 CFR 5b.5(a)(2)).

Contesting Record Procedures:

The subject individual should contact the system manager named above, and reasonably identify the record and specify the information to be contested. State the corrective action sought and the reasons for the correction with supporting justification. (These procedures are in accordance with Department regulation 45 CFR 5b.7).

Record Source Categories:

Sources of information contained in this records system include data collected from the individual on the completed form requesting a Medicare hearing or appeal. In addition, information contained in this SOR may be obtained from Medicare carriers or intermediaries and Quality Improvement Organizations records.

Systems Exempted From Certain Provisions of the Act:

None.

Appendix A. Health Insurance Claims

Medicare records are maintained at the CMS Central Office (see section 1 below for the address). Health Insurance Records of the Medicare program can also be accessed through a representative of the CMS Regional Office (see section 2 below for addresses). Medicare claims records are also maintained by private insurance organizations that share in administering provisions of the health insurance programs. These private insurance organizations, referred to as carriers and intermediaries, are under contract to the Centers for Medicare & Medicaid Services to perform specific task in the Medicare program (see section three below for addresses for intermediaries, section four addresses the carriers, and section five addresses the Payment Safeguard Contractors.

1. Central Office Address

CMS Data Center, 7500 Security Boulevard, North Building, First Floor, Baltimore, Maryland 21244-1850.

2. CMS Regional Offices

• BOSTON REGION—Connecticut, Maine, Massachusetts, New Hampshire, Rhode Island, Vermont. John F. Kennedy Federal Building, Room 1211, Boston, Massachusetts 02203. Office Hours: 8:30 a.m.-5 p.m.

• NEW YORK REGION—New Jersey, New York, Puerto Rico, Virgin Islands. 26 Federal Plaza, Room 715, New York, New York 10007, Office Hours: 8:30 a.m.-5 p.m.

• PHILADELPHIA REGION—Delaware, District of Columbia, Maryland, Pennsylvania, Virginia, West Virginia. Post Office Box 8460, Philadelphia, Pennsylvania 19101. Office Hours: 8:30 a.m.-5 p.m.

• ATLANTA REGION—Alabama, North Carolina, South Carolina, Florida, Georgia, Kentucky, Mississippi, Tennessee. 101 Marietta Street, Suite 702, Atlanta, Georgia 30223, Office Hours: 8:30 a.m.-4:30 p.m.

• CHICAGO REGION—Illinois, Indiana, Michigan, Minnesota, Ohio, Wisconsin. Suite A—824, Chicago, Illinois 60604. Office Hours: 8 a.m.-4:45 p.m.

• DALLAS REGION—Arkansas, Louisiana, New Mexico, Oklahoma, Texas, 1200 Main Tower Building, Dallas, Texas. Office Hours: 8 a.m.-4:30 p.m.

• KANSAS CITY REGION—Iowa, Kansas, Missouri, Nebraska. New Federal Office Building, 601 East 12th Street—Room 436, Kansas City, Missouri 64106. Office Hours: 8 a.m.-4:45 p.m.

• DENVER REGION—Colorado, Montana, North Dakota, South Dakota, Utah, Wyoming. Federal Office Building, 1961 Stout St—Room 1185, Denver, Colorado 80294. Office Hours: 8 a.m.-4:30 p.m.

• SAN FRANCISCO REGION—American Samoa, Arizona, California, Guam, Hawaii, Nevada. Federal Office Building, 10 Van Ness Avenue, 20th Floor, San Francisco, California 94102. Office Hours: 8 a.m.-4:30 p.m.

• SEATTLE REGION—Alaska, Idaho, Oregon, Washington. 1321 Second Avenue, Room 615, Mail Stop 211, Seattle, Washington 98101. Office Hours: 8 a.m.-4:30 p.m.

3. Intermediary Addresses (Hospital Insurance)

• Medicare Coordinator, Assoc. Hospital Serv. Maine (ME BC), 2 Gannett Drive South Portland, ME 04106-6911.

• Medicare Coordinator, Anthem New Hampshire, 300 Goffs Falls Road, Manchester, NH 03111-0001.

• Medicare Coordinator, BC/BS Rhode Island (RI BC), 444 Westminster Street, Providence, RI 02903-3279.

• Medicare Coordinator, Empire Medicare Services, 400 S. Salina Street, Syracuse, NY 13202.

• Medicare Coordinator, Cooperativa, P.O. Box 363428, San Juan, PR 00936-3428.

• Medicare Coordinator, Maryland B/C, P.O. Box 4368, 1946 Greenspring Ave., Timonium, MD 21093.

• Medicare Coordinator, Highmark, P5103, 120 Fifth Avenue Place, Pittsburgh, PA 15222-3099.

• Medicare Coordinator, United Government Services, 1515 N. Rivercenter Dr., Milwaukee, WI 53212.

• Medicare Coordinator, Alabama B/C, 450 Riverchase Parkway East, Birmingham, AL 35298.

• Medicare Coordinator, Florida B/C, 532 Riverside Ave., Jacksonville, FL 32202-4918.

• Medicare Coordinator, Georgia B/C, P.O. Box 9048, 2357 Warm Springs Road, Columbus, GA 31908.

• Medicare Coordinator, Mississippi B/C B MS, P.O. Box 23035, 3545 Lakeland Drive, Jackson, MI 9225-3035.

• Medicare Coordinator, North Carolina B/C, P.O. Box 2291, Durham, NC 27702-2291.

• Medicare Coordinator, Palmetto GBA A/RHHI, 17 Technology Circle, Columbia, SC 29203-0001.

• Medicare Coordinator, Tennessee B/C, 801 Pine Street, Chattanooga, TN 37402-2555.

• Medicare Coordinator, Anthem Insurance Co. (Anthm IN), P.O. Box 50451, 8115 Knue Road, Indianapolis, IN 46250-1936.

• Medicare Coordinator, Arkansas B/C, 601 Gaines Street, Little Rock, AR 72203.

• Medicare Coordinator, Group Health of Oklahoma, 1215 South Boulder, Tulsa, OK 74119-2827.

• Medicare Coordinator, TrailBlazer, P.O. Box 660156, Dallas, TX 75266-0156.

• Medicare Coordinator, Cahaba GBA, Station 7, 636 Grand Avenue, Des Moines, IA 50309-2551.

• Medicare Coordinator, Kansas B/C, P.O. Box 239, 1133 Topeka Ave., Topeka, KS 66629-0001.

• Medicare Coordinator, Nebraska B/C, P.O. Box 3248, Main PO Station, Omaha, NE 68180-0001.

• Medicare Coordinator, Mutual of Omaha, P.O. Box 1602, Omaha, NE 68101.

• Medicare Coordinator, Montana B/C, P.O. Box 5017, Great Falls Div., Great Falls, MT 59403-5017.

• Medicare Coordinator, Noridian, 4510 13th Avenue S.W., Fargo, ND 58121-0001.

• Medicare Coordinator, Utah B/C, P.O. Box 30270, 2455 Parleys Way, Salt Lake City, UT 84130-0270.

• Medicare Coordinator, Wyoming B/C, 4000 House Avenue, Cheyenne, WY 82003.

• Medicare Coordinator, Arizona B/C, P.O. Box 37700, Phoenix, AZ 85069.

• Medicare Coordinator, UGS, P.O. Box 70000, Van Nuys, CA 91470-0000.

• Medicare Coordinator, Regents BC, P.O. Box 8110 M/S D-4A, Portland, OR 97207-8110.

• Medicare Coordinator, Premera BC, P.O. Box 2847, Seattle, WA 98111-2847.

4. Medicare Carriers

• Medicare Coordinator, NHIC, 75 Sargent William Terry Drive, Hingham, MA 02044.

• Medicare Coordinator, B/S Rhode Island (RI BS), 444 Westminster Street, Providence, RI 02903-2790.

• Medicare Coordinator, Trailblazer Health Enterprises, Meriden Park, 538 Preston Ave., Meriden, CT 06450.

• Medicare Coordinator, Upstate Medicare Division, 11 Lewis Road, Binghamton, NY 13902.

• Medicare Coordinator, Empire Medicare Services, 2651 Strang Blvd., Yorktown Heights, NY 10598.

• Medicare Coordinator, Empire Medicare Services, NJ, 300 East Park Drive, Harrisburg, PA 17106.

• Medicare Coordinator, Triple S, #1441 F.D., Roosevelt Ave., Guaynabo, PR 00968.

• Medicare Coordinator, Group Health Inc., 4th Floor, 88 West End Avenue, New York, NY 10023.

• Medicare Coordinator, Highmark, P.O. Box 89065, 1800 Center Street, Camp Hill, PA 17089-9065.

• Medicare Coordinator, Trailblazers Part B, 11150 McCormick Drive, Executive Plaza 3 Suite 200, Hunt Valley, MD 21031.

• Medicare Coordinator, Trailblazer Health Enterprises, Virginia, P.O. Box 26463, Richmond, VA 23261-6463. United Medicare Coordinator, Tricenturion, 1 Tower Square, Hartford, CT 06183.

• Medicare Coordinator, Alabama B/S, 450 Riverchase Parkway East, Birmingham, AL 35298.

• Medicare Coordinator, Cahaba GBA, 12052 Middleground Road, Suite A, Savannah, GA 31419.

• Medicare Coordinator, Florida B/S, 532 Riverside Ave, Jacksonville, FL 32202-4918.

• Medicare Coordinator, Administar Federal, 9901 Linnstation Road, Louisville, KY 40223.

• Medicare Coordinator, Palmetto GBA, 17 Technology Circle, Columbia, SC 29203-0001.

• Medicare Coordinator, CIGNA, 2 Vantage Way, Nashville, TN 37228.

• Medicare Coordinator, Railroad Retirement Board, 2743 Perimeter Parkway, Building 250, Augusta, GA 30999.

• Medicare Coordinator, Cahaba GBA, Jackson Miss, P.O. Box 22545, Jackson, MI 39225-2545.

• Medicare Coordinator, Adminastar Federal (IN), 8115 Knue Road, Indianapolis, IN 46250-1936.

• Medicare Coordinator, Wisconsin Physicians Service, P.O. Box 8190, Madison, WI 53708-8190.

• Medicare Coordinator, Nationwide Mutual Insurance Co., P.O. Box 16788, 1 Nationwide Plaza, Columbus, Oh 3216-6788.

• Medicare Coordinator, Arkansas B/S, 601 Gaines Street, Little Rock, AR 72203.

• Medicare Coordinator, Arkansas-New Mexico, 601 Gaines Street, Little Rock, AR 72203.

• Medicare Coordinator, Palmetto GBA—DMERC, 17 Technology Circle, Columbia, SC 29203-0001.

• Medicare Coordinator, Trailblazer Health Enterprises, 901 South Central Expressway, Richardson, TX 75080.

• Medicare Coordinator, Nordian, 636 Grand Avenue, Des Moines, IA 50309-2551.

• Medicare Coordinator, Kansas B/S, P.O. Box 239, 1133 Topeka Ave., Topeka, KS 66629-0001.

• Medicare Coordinator, Kansas B/S—NE, P.O. Box 239, 1133 Topeka Ave., Topeka, KS 66629-0239.

• Medicare Coordinator, Montana B/S, P.O. Box 4309, Helena, MT 59601.

• Medicare Coordinator, Nordian, 4305 13th Avenue South, Fargo, ND 58103-3373.

• Medicare Coordinator, Noridian BCBSND (CO), 730 N. Simms #100, Golden, CO 80401-4730.

• Medicare Coordinator, Noridian BCBSND (WY), 4305 13th Avenue South, Fargo, ND 58103-3373.

• Medicare Coordinator, Utah B/S, P.O. Box 30270, 2455 Parleys Way, Salt Lake City, UT 84130-0270.

• Medicare Coordinator, Transamerica Occidental, P.O. Box 54905, Los Angeles, CA 90054-4905.

• Medicare Coordinator, NHIC—California, 450 W. East Avenue, Chico, CA 95926.

• Medicare Coordinator, Cigna, Suite 254, 3150 Lakeharbor, Boise, ID 83703.

• Medicare Coordinator, Cigna, Suite 506, 2 Vantage Way, Nashville, TN 37228.

5. Payment Safeguard Contractors

• Medicare Coordinator, Aspen Systems Corporation, 2277 Research Blvd., Rockville, MD 20850.

• Medicare Coordinator, DynCorp Electronic Data Systems (EDS), 11710 Plaza America Drive 5400 Legacy Drive, Reston, VA 20190-6017.

• Medicare Coordinator, Lifecare Management Partners Mutual of Omaha Insurance Co. 6601 Little River Turnpike, Suite 300 Mutual of Omaha Plaza, Omaha, NE 68175.

• Medicare Coordinator, Reliance Safeguard Solutions, Inc., P. O. Box 30207 400 South Salina Street, 2890 East Cottonwood Pkwy. Syracuse, NY 13202.

• Medicare Coordinator, Science Applications International, Inc., 6565 Arlington Blvd. P. O. Box 100282, Falls Church, VA.

• Medicare Coordinator, California Medical Review, Inc. Integriguard Division Federal Sector Civil Group One Sansome Street, San Francisco, CA 94104-4448.

• Medicare Coordinator, Computer Sciences Corporation Suite 600 3120 Timanus Lane, Baltimore, MD 21244.

• Medicare Coordinator, Electronic Data Systems (EDS), 11710 Plaza America Drive 5400 Legacy Drive, Plano, TX 75204.

• Medicare Coordinator, TriCenturion, L.L.C., P. O. Box 100282, Columbia, SC 29202.

[FR Doc. 04-27530 Filed 12-15-04; 8:45 am]

BILLING CODE 4120-03-P